DEPARTMENT OF AGRICULTURE

Forest Service

Madera County Resource Advisory Committee

AGENCY: Forest Service, USDA.

ACTION: Notice of resource advisory committee meeting.

SUMMARY: Pursuant to the authorities in the Federal Advisory Committee Act of 1972 (Pub. L. 92-463) and under the secure Rural Schools and Community Self-Determination Act of 2000 (Pub. L. 106-393) the Sierra National Forest's Resource Advisory Committee for Madera County will meet on Monday, June 21, 2004. The Madera Resource Advisory Committee will meet at the Yosemite Bank, Oakhurst, CA 93644. The purpose of the meeting is: Discuss reconsideration of project proposals, summary of USDA Forest Service budget, review RAC proposal evaluation process, discussion on the RAC Goal to clarify what type of projects the RAC wants, review Sierra Business Council Book, the Arrowhead Presentation.

DATES: The Madera Resource Advisory Committee meeting will be held Monday, June 21, 2004. The meeting will be held from 7 p.m. to 9 p.m.

ADDRESSES: The Madera County RAC meeting will be held at the Yosemite Bank, 40061 Highway 40, Oakhurst, CA 93644.

FOR FURTHER INFORMATION CONTACT: Dave Martin, USDA, Sierra National Forest, Bass Lake Ranger District, 57003 Road 225, North Fork, CA 93643, (559) 877-2218 ext. 3100; e-mail: dmartin05@fs.fed.us.

SUPPLEMENTARY INFORMATION: Agenda items to be covered include: (1) Discuss reconsideration of project proposals, (2) summary of USDA Forest Service budget, (3) review RAC proposal evaluation process, (4) discussion on the RAC Goal to clarify what type of projects the RAC wants, (5) review Sierra Business Council Book, and (6) the Arrowhead Presentation.

Dated: May 24, 2004.
David W. Martin,
District Ranger, Bass Lake Ranger District.

[FR Doc. 04-12220 Filed 5-28-04; 8:45 am]

BILLING CODE 3410-11-M